DEPARTMENT OF LABOR

Office of the Secretary

Agency Information Collection Activities; Submission for OMB Review; Comment Request; “Green Jobs and Health Care Implementation Study”

ACTION: Notice.

SUMMARY: The Department of Labor (DOL) is submitting the Employment and Training (ETA) sponsored information collection request (ICR) proposal entitled “Green Jobs and Healthcare Grants Implementation Study,” to the Office of Management and Budget (OMB) for review and approval in accordance with the Paperwork Reduction Act (PRA) of 1995 (44 U.S.C. 3501 et seq.).

DATES: Submit comments on or before January 30, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at (202) 693-4129 (this is not a toll-free number) or sending an email to DOL_PRA_PUBLIC@dol.gov.

Submit comments about this request to the Office of Information and Regulatory Affairs, Attn: OMB Desk Officer for the Department of Labor, Employment and Training (ETA), Office of Management and Budget, Room 10235, Washington, DC 20503, Telephone: (202) 395-6929/Fax: (202) 395-6881 (these are not toll-free numbers), email: OIRA_submission@omb.eop.gov.

FOR FURTHER INFORMATION: Contact Michel Smyth by telephone at (202) 693-4129 (this is not a toll-free number) or by email at DOL_PRA_PUBLIC@dol.gov.

SUPPLEMENTARY INFORMATION: This information collection request seeks to collect data from recipients of four ETA grants that provide funding to train unemployed, underemployed, dislocated, and incumbent workers for employment and to create career pathways in healthcare and other growing industries. The ETA seeks clearance to conduct on-site in-depth interviews with grantees and their program partner staff; conduct focus groups with grant participants; and administer a web/telephone survey of all grant project directors and selected program partner staff as part of the Green Jobs and Healthcare Implementation Study. This project seeks to understand the processes surrounding the design and implementation of the four grant programs.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on August 29, 2011 (vol. 76, p 53698). Interested parties are encouraged to send comments to the OMB, Office of Information and Regulatory Affairs at the address shown in the ADDRESSES section within 30 days of publication of this notice in the Federal Register. In order to help ensure appropriate consideration, comments should reference ICR Reference Number 201110-1205-002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Title of Collection: Green Jobs and Health Care Implementation Study.

OMB ICR Reference Number: 201110-1205-002.

Affected Public: Private Sector—Businesses or Other For-Profits and Not-For-Profit Institutions; State, Local, and Tribal Governments; and Individuals and Households.

Total Estimated Number of Respondents: 1,272.

Total Estimated Number of Responses: 2,252.

Total Estimated Annual Burden Hours: 1,186.

Total Estimated Annual Other Costs Burden: $0.

Dated: December 21, 2011.
Michel Smyth,
Departmental Clearance Officer.

[FR Doc. 2011-33373 Filed 12-28-11; 8:45 am]

BILLING CODE 4510-30-P